DEPARTMENT OF THE INTERIOR

National Park Service

[NPS-WASO-NAGPRA-19846; PCU00RP14.R50000-PPWOCRDN0]

Notice of Inventory Completion: U.S. Department of the Interior, Bureau of Indian Affairs, Washington, DC

AGENCY: National Park Service, Interior.

ACTION: Notice.

SUMMARY: The U.S. Department of the Interior, Bureau of Indian Affairs has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Bureau of Indian Affairs. If no additional requestors come forward, transfer of control of the human remains to the Indian tribes or Native Hawaiian organizations stated in this notice may proceed.

DATES: Representatives of any Indian tribe or Native Hawaiian organization not identified in this notice that wish to request transfer of control of these human remains should submit a written request with information in support of the request to the Bureau of Indian Affairs at the address in this notice by February 8, 2016.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains under the control of the U.S. Department of the Interior, Bureau of Indian Affairs, Washington, DC, and in the physical custody of the Arizona State Museum, Tucson, AZ. The human remains were removed from areas around Pyramid Lake, Washoe County, NV.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the U.S. Department of the Interior, Bureau of Indian Affairs professional staff in consultation with representatives of the Pyramid Lake Paiute Tribe of the Pyramid Lake Reservation, Nevada.

History and Description of the Remains

In 1959, human remains representing, at minimum, three individuals were removed from a site located on the Northwest corner of Pyramid Lake in Washoe County, NV, by F.A. Riddell (State of California Division of Beaches and Parks) and H. Norcross, and donated to the Phoebe A. Hearst Museum of Anthropology. At the request of the Pyramid Lake Paiute Tribe of the Pyramid Lake Reservation, Nevada, and the Bureau of Indian Affairs, these human remains were transferred to the Arizona State Museum in 2013 for documentation and temporary custody. No known individuals were identified. No associated funerary objects are present.

At an unknown date prior to 1955, human remains representing, at minimum, one individual were removed from a small cave in “Paul Bunyan's Corral” located on the east side of Pyramid Lake in Washoe County, NV. They were donated by M. Wheat to the Phoebe A. Hearst Museum of Anthropology in 1955. At the request of the Pyramid Lake Paiute Tribe of the Pyramid Lake Reservation, Nevada, and the Bureau of Indian Affairs, these human remains were transferred to the Arizona State Museum in 2013 for documentation and temporary custody. No known individuals were identified. No associated funerary objects are present.

At an unknown date prior to 1922, human remains representing, at minimum, two individuals were removed from the east side of Pyramid Lake in Washoe County, NV, by Peterson Pancho and donated to the Phoebe A. Hearst Museum of Anthropology in 1922. At the request of the Pyramid Lake Paiute Tribe of the Pyramid Lake Reservation, Nevada, and the Bureau of Indian Affairs, these human remains were transferred to the Arizona State Museum in 2013 for documentation and temporary custody. No known individuals were identified. No associated funerary objects are present.

At an unknown date prior to 1923, human remains representing, at minimum, five individuals were removed from south of Pyramid Lake in Washoe County, NV, by Peterson Pancho and donated to the Phoebe A. Hearst Museum of Anthropology in 1923. At the request of the Pyramid Lake Paiute Tribe of the Pyramid Lake Reservation, Nevada, and the Bureau of Indian Affairs, these human remains were transferred to the Arizona State Museum in 2013 for documentation and temporary custody. No known individuals were identified. No associated funerary objects are present.

Determinations Made by the U.S. Department of the Interior, Bureau of Indian Affairs

Officials of the U.S. Department of the Interior, Bureau of Indian Affairs have determined that:

• Pursuant to 25 U.S.C. 3001(9), the human remains described in this notice are Native American based on physical characteristics including cranial and dental morphology.

• Pursuant to 25 U.S.C. 3001(9), the human remains described in this notice represent the physical remains of 11 individuals of Native American ancestry.

• Pursuant to 25 U.S.C. 3001(2), a relationship of shared group identity cannot be reasonably traced between the Native American human remains and any present-day Indian tribe.

• Pursuant to 25 U.S.C. 3001 (15), the land from which the Native American human remains were removed is the tribal land of the Pyramid Lake Paiute Tribe of the Pyramid Lake Reservation, Nevada.

• Pursuant to 43 CFR 10.11(c)(1), the disposition of the human remains may be to the Pyramid Lake Paiute Tribe of the Pyramid Lake Reservation, Nevada.

Additional Requestors and Disposition

Representatives of any Indian tribe or Native Hawaiian organization not identified in this notice that wish to request transfer of control of these human remains should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by February 8, 2016. After that date, if no additional requestors have come forward, transfer of control of the human remains to the Pyramid Lake Paiute Tribe of the Pyramid Lake Reservation, Nevada, may proceed.

The U.S. Department of the Interior, Bureau of Indian Affairs is responsible for notifying the Pyramid Lake Paiute Tribe of the Pyramid Lake Reservation, Nevada, that this notice has been published.

Dated: November 23, 2015.
Amberleigh Malone,
Acting Manager, National NAGPRA Program.

[FR Doc. 2016-00067 Filed 1-6-16; 8:45 am]

BILLING CODE 4312-50-P